DEPARTMENT OF VETERANS AFFAIRS

Creating Options for Veterans Expedited Recovery (COVER) Commission; Notice of Meeting

In accordance with the Federal Advisory Committee Act, the Creating Options for Veterans Expedited Recover (COVER) Commission gives notice that a meeting will be held:

1. December 4, 5, and 6, 2018 James A. Haley Tampa Veterans Hospital

2. January 14 and 15, 2019, from 1-4 p.m. ET or completion of out-briefs whatever comes first, VANTS call.

The purpose of the COVER Commission is to examine the evidence-based therapy treatment model used by the Department of Veterans Affairs (VA) for treating mental health conditions of Veterans and the potential benefits of incorporating complementary and integrative health approaches as standard practice throughout the Department.

The December 4, 2018 meeting will convene at the James A. Haley Tampa Veterans Hospital and will be open to the public from 9:00 a.m. to 12:20 p.m. ET on Dec. 4; from 8:30-9:30 a.m. on Dec. 5; and from 8:30-11:30 a.m. ET on Dec. 6. The location for all open sessions is in the Auditorium, Building 1, 2nd floor. All other sessions will be closed as the Commissioners will split into several interview/data collection teams to accomplish research, discuss relevance of the interviews and research and focus group information collected, and conduct sensitive interviews/focus groups with Veterans. The public is not invited to interviews in order protect privacy data and proprietary information under S.C. 552b(c) under (9) (B) “because it would reveal information the disclosure of which would, “in the case of an agency, be likely to significantly frustrate implementation of a proposed agency action.”

December 4, 2018 open meetings will consist of briefings on:

1. Overview of Mental Health Services

2. Whole Health/CIH Overview

3. Pain Program Overview

The December 5, 2018, open meeting will consist of a briefing on Mental Health Care in the Community.

December 6, 2018 open sessions will consist of:

1. Mental Health Continuum of Care and Application of the Statistical Analytics for Improvement and Learning (SAIL) report application

2. Department of Defense Collaboration with James A. Haley Veterans Hospital to provide appropriate and timely mental health services

The January 14 and 15, 2018 meetings are VANTS line by Commissioners; a listening line is provided for the public to call in. These meetings are for commissioners to out brief and summarize the COVER Commission subcommittee's activities and findings since the open sessions updates on November 6 & 7, 2018 and to further discuss applicability to the charter and legislative requirements.

The listening line number for the public for all open sessions December 4, 5, & 6 as well as for the subcommittee updates on January 14 & 15, 2018 is 800-767-1750; access code 48664#. The line number will be activated 10 minutes before each of the open or call in sessions.

Members of the public are invited to open sessions. Videotaping or recording, tweeting commission or staff photos or comments are discouraged as they are disruptive to Commission members and staff and other audience members. Any member of the public seeking additional information should email COVERCommission@va.gov. The Acting Designated Federal Officer for the Commission is Ms. Alison Whitehead. She and the staff will be monitoring and responding to questions or comments sent to this email box. The Committee will also accept written comments which may be sent to the same email box. In the public's communications with the Committee, the writers must identify themselves and state the organizations, associations, or persons they represent.

Dated: November 20, 2018.
LaTonya L. Small,
Federal Advisory Committee Management Officer.

[FR Doc. 2018-25624 Filed 11-23-18; 8:45 am]

BILLING CODE P